DEPARTMENT OF STATE

[Public Notice: 7312]

Notice of Certification; Foreign Military Financing, and International Military Education and Training; Guatemala

AGENCY: Department of State.

ACTION: Notice.

The Department of State hereby provides notice that on July 23, 2009, and May 14, 2010, the Deputy Secretary of State for Management and Resources signed certifications under Section 7045(d) of the Department of State, Foreign Operations, and Related Programs Appropriations Acts of 2009 and 2010 respectively, concerning the Guatemalan Air Force, Navy, and Army Corps of Engineers.

The certifications state that for the relevant fiscal year, “(A) the Guatemalan Air Force, Navy, and Army Corps of Engineers are respecting internationally recognized human rights; (B) the Guatemalan Air Force, Navy, and Army Corps of Engineers are cooperating with civilian judicial investigations and prosecutions of current and retired military personnel who have been credibly alleged to have committed violations of such rights, including protecting and providing to the Attorney General's office all military archives pertaining to the internal armed conflict; and (C) the Guatemalan Air Force, Navy, and Army Corps of Engineers are cooperating with the International Commission Against Impunity in Guatemala (CICIG) by granting access to CICIG personnel, providing evidence to CICIG, and allowing witness testimony.”

True and correct copies of the certifications are published as Appendix A and Appendix B to this notice.

Dated: January 5, 2011.
Arturo A. Valenzuela,
Assistant Secretary of State for Western Hemisphere Affairs, Department of State.

[Appendix A]

Certification Related to Guatemalan Armed Forces Under Section 7045(D) of the Department of State, Foreign Operations and Related Programs Appropriations Act, 2009

Pursuant to the authority vested in me as Deputy Secretary of State, including under Section 7045(d) of the Department of State, Foreign Operations, and Related Programs Appropriations Act, 2009 (Div. H, Pub. L. 111-8)(“the Act”) and Delegation of Authority No. 245-1, I hereby certify that:

(A) The Guatemalan Air Force, Navy, and Army Corps of Engineers are respecting internationally recognized human rights;

(B) The Guatemalan Air Force, Navy, and Army Corps of Engineers are cooperating with civilian judicial investigations and prosecutions of current and retired military personnel who have been credibly alleged to have committed violations of such rights, including protecting and providing to the Attorney General's office all military archives pertaining to the internal conflict; and

(C) The Guatemalan Air Force, Navy, and Army Corps of Engineers are cooperating with the International Commission Against Impunity in Guatemala (CICIG) by granting access to CICIG personnel, providing evidence to CICIG, and allowing witness testimony.

This Certification shall be published in the Federal Register, and copies shall be transmitted to the appropriate committees of Congress.

[Appendix B]

Certification Related to Guatemalan Armed Forces Under Section 7045(d) of the Department of State, Foreign Operations, and Related Programs Appropriations Act, 2010

Pursuant to the authority vested in me as Deputy Secretary of State, including under Section 7045(d) of the Department of State, Foreign Operations, and Related Programs Appropriations Act, 2010 (Div. F, Pub. L. 111-117)(“the Act”) and Delegation of Authority No. 245-1, I hereby certify that:

(A) The Guatemalan Air Force, Navy, and Army Corps of Engineers are respecting internationally recognized human rights;

(B) The Guatemalan Air Force, navy, and Army Corps of Engineers are cooperating with civilian judicial investigations and prosecutions of current and retired military personnel who have been credibly alleged to have committed violations of such rights, including protecting and providing to the Attorney General's office all military archives pertaining to the internal armed conflict; and

(C) The Guatemalan Air Force, Navy, and Army Corps of Engineers are cooperating with the International Commission Against Impunity in Guatemala (CICIG) by granting access to CICIG personnel, providing evidence to CICIG, and allowing witness testimony.

This Certification shall be published in the Federal Register, and copies shall be transmitted to the appropriate committees of Congress.

[FR Doc. 2011-2523 Filed 2-3-11; 8:45 am]

BILLING CODE 4710-29-P